DEPARTMENT OF DEFENSE

Department of the Army

Command and General Staff College Advisory Committee

AGENCY: Department of the Army, DOD.

ACTION: Notice of open meeting.

SUMMARY: In accordance with section 10(a)(2) of the Federal Advisory Committee Act (Pub. L. 92-463) announcement is made of the following committee meeting:

Name of Committee: U.S. Army Command and General Staff College (CGSC) Advisory Committee.

Date of Meeting: March 31-April 2, 2004.

Place of Meeting: Bell Hall, Room 113, 1 Reynolds Ave., Fort Leavenworth, KS 66027-1352.

Time of Meeting: 3 p.m. to 5 p.m. (March 31, 2004); 7:30 a.m. to 5 p.m. (April 1, 2004); and 7:30 a.m. to 2 p.m. (April 2, 2004).

Proposed Agenda: Review of CGSC educational program and Executive Session and Report to Commandant (10:30 a.m. to 12:30 p.m., April 2, 2004).

FOR FURTHER INFORMATION CONTACT: Dr. Robert F. Baumann, Committee's Executive Secretary, USACGSC Advisory Committee, 1 Reynolds Ave., Bell Hall, Room 119, Fort Leavenworth, KS 66027-1352; or phone (913) 684-2742.

SUPPLEMENTARY INFORMATION: The purpose of the meeting is for the Advisory Committee to examine the entire range of college operations and, where appropriate, to provide advice and recommendations to the College Commandant and faculty.

The meeting will be open to the public to the extent that space limitations of the meeting location permit. Because of these limitations, interested parties are requested to reserve space by contacting the Committee's Executive Secretary at the above address or phone number.

Brenda S. Bowen,
Alternate Army Federal Register Liaison Officer.

[FR Doc. 04-6185 Filed 3-18-04; 8:45 am]

BILLING CODE 3710-08-M